DEPARTMENT OF HEALTH AND HUMAN SERVICES

Centers for Disease Control and Prevention

[Program Announcement 03103]

Cooperative Agreement To Enhance Clinical Practices To Prevent Birth Defects and Developmental Disabilities and To Promote Health Among Women With Disabilities; Notice of Availability of Funds

Application Deadline: June 20, 2003.

A. Authority and Catalog of Federal Domestic Assistance Number

This program is authorized under section 301, 311, and 317C of the Public Health Service Act, [42 U.S.C. 241, 243, and 247b-4], as amended. The Catalog of Federal Domestic Assistance number is 93.184.

B. Purpose

The Centers for Disease Control and Prevention (CDC) announces the availability of fiscal year (FY) 2003 funds for a cooperative agreement program to enhance clinical practices to prevent birth defects and developmental disabilities and to promote health among women with disabilities. This program addresses the “Healthy People 2010” focus areas of Maternal, Infant and Child Health and Disability and Secondary Conditions.

The purpose of this program is to prevent birth defects and developmental disabilities and to improve access to preventive and health promotion obstetric/gynecologic services to women with disabilities through: (1) Understanding the current knowledge, skills, attitudes and practices among obstetricians/gynecologists and their clients related to the prevention of birth defects/developmental disabilities and to provision of services to women with disabilities; (2) Identifying the information and training needs of obstetricians/gynecologists in these areas; (3) Developing information, communication, education, and training programs to meet those needs; and, (4) Providing targeted training, education, and information to obstetricians/gynecologists for more effective practice.

Measurable outcomes of the program will be in alignment with one or more of the following performance goals for the National Center on Birth Defects and Developmental Disabilities: Prevent birth defects and developmental disabilities and improve the health and quality of life of American's with disabilities.

Research involving human participants will not be supported under this cooperative agreement.

C. Eligible Applicants

Assistance will be provided only to applicants that are well established national, non-profit organizations who are: (1) Involved in providing health care services for women; (2) who are able to reach out to and work with, obstetricians/gynecologists to collect information AND to disseminate information to obstetricians/gynecologists and their clients; and, (3) who are able to provide them with proper education and training.

Note: Title 2 of the United States Code Section 1611 states that an organization described in Section 501(c)(4) of the Internal Revenue Code that engages in lobbying activities is not eligible to receive Federal funds constituting an award, grant or loan.

D. Availability of Funds

Approximately $250,000 is available in FY 2003 to fund one award. It is expected that the award will begin on or about September 1, 2003, and will be made for a 12-month budget period within a project period of up to five years. Funding estimates may change.

Continuation awards within an approved project period will be made on the basis of satisfactory progress as evidenced by required reports and the availability of funds.

Recipient Financial Participation

Matching funds are not required for this program.

E. Program Requirements

In conducting activities to achieve the purpose of this program, the recipient will be responsible for the activities under 1. (Recipient Activities), and CDC will be responsible for the activities listed under 2. (CDC Activities).

1. Recipient Activities

a. Collect information from obstetricians/gynecologists regarding their knowledge and application of interventions that have been proven to prevent birth defects/developmental disabilities, particularly before conception, such as the use of folic acid to prevent neural tube defects, abstinence from alcohol during pregnancy to prevent fetal alcohol syndrome, and the need for newborn screening.

b. Collect information about women's knowledge and use of interventions that prevent birth defects and developmental disabilities; in particular the use of folic acid by women whose infants were born with and died, of neural tube defects.

c. Collect information about obstetricians/gynecologists' ability to provide services to women with disabilities; in particular: their training in providing services to women with disabilities; access of their facilities to women in wheelchairs; appropriateness of the instruments/machines/technology in their offices for providing services to women with disabilities (exam tables, mammogram machines, etc).

d. Analyze data, organize and disseminate information collected from obstetricians/gynecologists and their clients.

e. Use information to design and implement communication, education and training activities that will promote professional development for obstetricians/gynecologists in birth defects and developmental disabilities and improve provider health care practices and prevention of birth defects.

f. Evaluate the effectiveness of these programs in enhancing the ability of obstetricians/gynecologists in providing effective prevention/health promotion services.

g. Collaborate with organizations such as the American Academy of Pediatrics, American College of Obstetricians and Gynecologists, March of Dimes, American College of Nurse Midwives and others that could provide professional development activities and assist in the dissemination of information on birth defects and health promotion for women with disabilities.

h. Convene selected panels of experts to assist in identifying the knowledge and practices in the areas related to birth defects and developmental disabilities, and to provide expert opinions and advice on needed research services and education.

i. Disseminate information on prevention of birth defects, developmental disabilities and health promotion for women with disabilities.

j. Develop and utilize collaborative relationships with State and local medical societies and health care professionals, in order to enhance health care providers' understanding of the information and resources available in the areas relating to birth defects prevention and health promotion among women with disabilities.

k. Identify research topics that address prevention effectiveness and development of best practices.

2. CDC Activities

a. Participate in the panel of experts meeting and assist in the identification of knowledge and practices in the areas related to birth defects and developmental disabilities, and disability and health.

b. Assist in developing and evaluating projects in health and disability services.

c. Assist in providing data for targeting or evaluation of various initiatives carried out through this project.

d. Participate in materials development and evaluation to support interventions.

e. Assist in the development of forums and critical issues related to health and disability services.

f. Participate in the development of health care provider training programs.

g. Participate in planning meetings that identify gaps in services and research topics on prevention effectiveness.

h. Serve as a resource for sharing regional and/or national pertinent data.

F. Content

Letter of Intent (LOI)

A LOI is requested for this program. The Program Announcement title and number must appear in the LOI. The narrative should be no more than 2 pages, double-spaced, printed on one side, with one-inch margins, and unreduced 12-point font. Your letter of intent will be used to enable CDC to determine the level of interest in the announcement and plan the review more efficiently.

Applications

The Program Announcement title and number must appear in the application. Use the information in the Program Requirements, Other Requirements, and Evaluation Criteria sections to develop the application content. The application will be evaluated on the criteria listed, so it is important to follow them in completing the description of the program plan. The application narrative should be no more than 25 double-spaced pages, printed on one side, with one-inch margins, and unreduced font. Applicants should include a Table of Contents (not to exceed one page) to provide a guide for locating key topics.

1. Understanding of the Project. Briefly identify and describe the target audience of the project.

2. Objectives. Establish long-range (five year) and short-term (one year) objectives for programmatic plans. Objectives should be specific, measurable, time-phased and realistic.

3. Operational Plan. Describe the operation plan for achieving the objectives. Describe each component or major activity and how it will be carried out.

4. Evaluation Plan. Discuss the plan for monitoring progress toward each of the objectives.

5. Program Management. Give the name and qualifications of the professional personnel who will manage this project.

6. Collaborate with State/Local Health Departments. Describe plans for coordination with state or local health departments.

7. Budget. Submit a detailed and line item justification that is consistent with the project purpose and proposed activities.

G. Submission and Deadline

Letter of Intent (LOI) Submission

On or before June 2, 2003, submit the LOI to the Program Officer, at the address designated for programmatic technical assistance identified in the “Where to Obtain Additional Information” section on this announcement.

Application Forms

Submit the original and two copies of PHS-5161 (OMB Number 0937-0189) Forms are available at the following Internet address: http://www.cdc.gov/od/pgo/forminfo.htm. If you do not have access to the internet, or if you have difficulty accessing the forms on-line, you may contact the CDC Procurement and Grants Office Technical Information Management Section at telephone number (770) 488-2700. Application forms can be mailed to you.

Submission Date, Time, and Address

The application must be received by 4 p.m. Eastern Time on June 20, 2003. Submit the application to: Technical Information Management Section—PA #, CDC Procurement and Grants Office, 2920 Brandywine Road, Atlanta, GA 30341-4146.

Applications may not be submitted electronically.

CDC Acknowledgement of Application Receipt

A postcard will be mailed by PGO-TIM, notifying you that CDC has received your application.

Deadline

Letters of intent and applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. The measures of effectiveness must be submitted with the application and will be an element of evaluation.

An independent review group appointed by CDC will evaluate each application against the following criteria:

1. The adequacy of the operational plans for carrying out the various initiatives involved in the project. (30 points)

2. The extent to which professional personnel proposed to be involved in this project are qualified, including evidence of past achievements appropriate to this project (20 points)

3. The degree to which the proposed objectives are clearly stated, realistic, time-phased, and related to the purpose of the project. (15 points)

4. The quality and feasibility of the evaluation plan for the various initiatives involved in the project. (15 points)

5. The extent to which the applicant understands the requirements, problems, objectives and complexities of the project. (10 points)

6. The extent to which the applicant proposes potentially effective coordination with state/local health departments. (10 points)

7. Budget and its description. The applicant must provide justification for budget expenditures as well as appropriateness of activities proposed in their application. (Not scored)

I. Other Requirements

Technical Reporting Requirements

Provide CDC with original plus two copies of

1. Interim progress report, which will be due on April 22nd of each budget year. The progress report will serve as your non-competing continuation application, and must contain the following elements:

a. Current Budget Period Activities Objectives;

b. Current Budget Period Financial Progress;

c. New Budget Period Program Proposed Activity and Objectives;

d. Detailed Line-Item Budget and Justification; and

e. Additional Requested Information.

2. Financial status report, due no more than 90 days after the end of the budget period (December 30th of each budget year); and

3. Final financial and performance reports, no more than 90 days after the end of the project period.

Send all reports to the Grants Management Specialist identified in the “Where to Obtain Additional Information” section of this announcement.

Additional Requirements

The following additional requirements are applicable to this program. For a complete description of each, see Attachment I of the announcement, as posted on the CDC web site.

AR-09 Paperwork Reduction Act

AR-10 Smoke-Free Workplace Requirements

AR-11 Healthy People 2010

AR-12 Lobbying Restrictions

AR-14 Accounting System Requirements

AR-15 Proof of Non-Profit Status

Executive Order 12372 does not apply.

J. Where to Obtain Additional Information

This and other CDC announcements can be found on the CDC home page Internet address— http://www.cdc.gov. Click on “Funding” then “Grants and Cooperative Agreements.”

For general questions about this announcement, contact: Technical Information Management, CDC Procurement and Grants Office, 2920 Brandywine Road, Atlanta, GA 30341-4146, Telephone: 770-488-2700.

For business management technical assistance, contact: Sheryl Heard, Grants Management Specialist, Acquisition and Assistance Branch B., Procurement and Grants Office, Centers for Disease Control and Prevention, 2920 Brandywine Road, Room 3000, Atlanta, GA 30341-4146. Telephone number: 770-488-2723. Email: slh3@cdc.gov.

For program technical assistance, contact: Hani Atrash, Associate Director for Program Development, National Center on Birth Defects and Developmental Disabilities, 4770 Buford Highway, Atlanta, Georgia 30341, Telephone number: 770-488-4943, Email: hka1@cdc.gov.

Dated: May 15, 2003.
Sandra R. Manning,
Director, Procurement and Grants Office, Centers for Disease Control and Prevention.

[FR Doc. 03-12709 Filed 5-20-03; 8:45 am]

BILLING CODE 4163-18-P